FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted January 1, 2017 Thru January 31, 2017
01/03/2017
20170451 | G | IIF US Holding LP; United States Power Fund III, L.P.; IIF US Holding LP.
20170459 | G | Asbury Automotive Group, Inc.; David and Jackie Cox; Asbury Automotive Group, Inc.
20170467 | G | Synchronoss Technologies, Inc.; IntraLinks Holdings, Inc.; Synchronoss Technologies, Inc.
20170474 | G | Desmarais Family Residuary Trust; Performance Sports Group Ltd.; Desmarais Family Residuary Trust.
20170475 | G | Fairfax Financial Holdings Limited; Performance Sports Group Ltd.; Fairfax Financial Holdings Limited.
20170477 | G | West Street Capital Partners VII, L.P.; The Goldman Sachs Group, Inc.; West Street Capital Partners VII, L.P.
20170478 | G | West Street Capital Partners VII, L.P.; Altor Holding AB; West Street Capital Partners VII, L.P.
20170479 | G | Sterling Investment Partners III, L.P.; Belnick, Inc.; Sterling Investment Partners III, L.P.
20170482 | G | Quantum Energy Partners V, LP; Gulfport Energy Corporation; Quantum Energy Partners V, LP.
20170484 | G | Sumitomo Corporation; Fyffes plc; Sumitomo Corporation.
20170490 | G | LSF9 Pharaoh L.P.; Halmont Properties Corporation; LSF9 Pharaoh L.P.
20170491 | G | The Hearst Family Trust; David L. Morgan and Milleson M. Morgan; The Hearst Family Trust.
20170493 | G | Nucor Corporation; San Faustin N.V.; Nucor Corporation.
20170500 | G | TPG Partners VII, L.P.; Thoma Bravo Fund X, L.P.; TPG Partners VII, L.P.
20170506 | G | John B. Zachry; Ambitech Engineering Corporation; John B. Zachry.
01/04/2017
20170426 | G | China Reform Holdings Corporation Ltd.; Lattice Semiconductor Corporation; China Reform Holdings Corporation Ltd.
20170487 | G | Sika AG; Linda W. Hart and Milledge A. Hart, III; Sika AG.
20170497 | G | Sibanye Gold Limited; Stillwater Mining Company; Sibanye Gold Limited.
20170501 | G | BCP Energy Services Fund, LP; Charles E. Price; BCP Energy Services Fund, LP.
01/06/2017
20170432 | G | TCV VIII, L.P.; Payoneer Inc.; TCV VIII, L.P.
20170468 | G | Greenlight Capital, L.P.; General Motors Company; Greenlight Capital, L.P.
20170469 | G | Greenlight Capital (Gold), L.P.; General Motors Company; Greenlight Capital (Gold), L.P.
20170470 | G | Greenlight Capital Re, Ltd.; General Motors Company; Greenlight Capital Re, Ltd.
20170471 | G | Greenlight Capital Offshore (Gold), Ltd.; General Motors Company; Greenlight Capital Offshore (Gold), Ltd.
20170472 | G | Greenlight Capital Qualified, L.P.; General Motors Company; Greenlight Capital Qualified, L.P.
20170473 | G | Greenlight Capital Offshore, Ltd.; General Motors Company; Greenlight Capital Offshore, Ltd.
20170483 | G | NWP HoldCo LLC; Sociedade de Gestao e Financiamentos, S.G.P.S., S.A.; NWP HoldCo LLC.
20170494 | G | KSBP Holdings, LLC; Kendra Scott; KSBP Holdings, LLC.
20170522 | G | Pamlico Capital III, L.P.; LOE Holdings, LLC; Pamlico Capital III, L.P.
20170528 | G | Intel Corporation; There Holding B.V.; Intel Corporation.
20170530 | G | Bain Capital Fund XI, L.P.; Epic/Freedom, LLC; Bain Capital Fund XI, L.P.
01/09/2017
20170517 | G | Netmarble Games Corporation; Kabam, Inc.; Netmarble Games Corporation.
20170525 | G | Liberty Mutual Holding Company Inc.; GUO GUANGCHANG; Liberty Mutual Holding Company Inc.
20170529 | G | KKR European Fund IV L.P.; Gfk Verein; KKR European Fund IV L.P.
01/10/2017
20170460 | G | H.I.G. Middle Market LBO Fund II, L.P.; Lionbridge Technologies, Inc.; H.I.G. Middle Market LBO Fund II, L.P.
20170502 | G | Global Atlantic Financial Group Limited; Perella Weinberg Partners ABV Opportunity Master Fund III B; Global Atlantic Financial Group Limited.
20170507 | G | Casablanca Holdings L.P.; Bain Capital Fund X, L.P.; Casablanca Holdings L.P.
20170511 | G | New Mountain Partners IV, L.P.; Dr. Barry Arkles; New Mountain Partners IV, L.P.
01/11/2017
20170439 | G | Consolidated Communications Holdings, Inc.; FairPoint Communications, Inc.; Consolidated.
20170513 | G | Communications Holdings, Inc. Munksjo Oyj; Ahlstrom Corporation; Munksjo Oyj.
01/12/2017
20170458 | G | Novartis AG; Ziarco Group Limited; Novartis AG.
20170496 | G | Novartis AG; Encore Vision, Inc.; Novartis AG.
20170527 | G | WerfenLife, S.A.; Warburg Pincus Private Equity X, L.P.; WerfenLife, S.A.
01/13/2017
20170488 | G | Gemalto N.V.; 3M Company; Gemalto N.V.
20170533 | G | Patterson-UTI Energy, Inc.; Seventy Seven Energy Inc.; Patterson-UTI Energy, Inc.
20170535 | G | Welsh Carson Anderson & Stowe XI, LP; Revel Systems, Inc.; Welsh Carson Anderson & Stowe XI, LP.
20170536 | G | AIF VIII Euro Holdings, L.P.; Koninklijke Philips N.V.; AIF VIII Euro Holdings, L.P.
20170538 | G | Alta Resources Development, LLC; Anadarko Petroleum Corporation; Alta Resources Development, LLC.
20170549 | G | Vulcan Materials Company; Jack D. Lowery and Susannah S. Lowery; Vulcan Materials Company.
20170552 | G | Alta Resources Development, LLC; Mitsui & Co. Ltd.; Alta Resources Development, LLC.
20170554 | G | Warburg Pincus Private Equity XII, L.P.; A&M Capital Partners, LP; Warburg Pincus Private Equity XII, L.P.
20170555 | G | Gee Automotive Holdings, LLC; Edward C. Tonkin; Gee Automotive Holdings, LLC.
20170557 | G | Gee Automotive Holdings, LLC; Bradley E. Tonkin; Gee Automotive Holdings, LLC.
01/17/2017
20170461 | G | Schweitzer-Manduit International, Inc.; Leucadia National Corporation; Schweitzer-Manduit International, Inc.
20170466 | G | Warburg Pincus Private Equity XI, L.P.; Minnesota Mutual Companies, Inc.; Warburg Pincus Private Equity XI, L.P.
20170518 | G | Golden Gate Capital Opportunity Fund, L.P.; NeuStar, Inc.; Golden Gate Capital Opportunity Fund, L.P.
20170542 | G | Partners Group Client Access 19, L.P. Inc.; Quad-C Partners VII, L.P.; Partners Group Client Access 19, L.P. Inc.
20170547 | G | MMJS Trust; Apache Industrial Holdings, Inc.; MMJS Trust.
20170551 | G | Lonza Group Ltd; CH Holding L.P.; Lonza Group Ltd.
20170558 | G | Thoma Bravo Fund XII, L.P.; PHNTM Holdings, Inc.; Thoma Bravo Fund XII, L.P.
01/18/2017
20170464 | G | Sierra Private Investments L.P.; Mitel Networks Corporation; Sierra Private Investments L.P.
20170495 | G | KKR North America Fund, XI, L.P.; Blackstone Capital Partners VI L.P.; KKR North America Fund, XI, L.P.
01/19/2017
20170520 | G | Unilever N.V.; Living Proof, Inc.; Unilever N.V.
20170543 | G | Prestige Brands Holdings, Inc.; C.B. Fleet TopCo, LLC; Prestige Brands Holdings, Inc.
01/23/2017
20170553 | G | Altor Holding AB; Transcom Worldwide AB; Altor Holding AB.
20170556 | G | Berkshire Hathaway Inc.; Schulz Holding GmbH & Co. KG; Berkshire Hathaway Inc.
20170564 | G | Secondary Opportunities Fund III, LP; Enhanced Equity Fund, L.P.; Secondary Opportunities Fund III, LP.
20170565 | G | Secondary Opportunities Fund III, LP; Enhanced Equity Fund II, L.P.; Secondary Opportunities Fund III, LP.
20170566 | G | Atlassian Corporation Plc; Trello, Inc.; Atlassian Corporation Plc.
20170570 | G | Blackstone Core Equity Partners L.P.; RT SESAC Holdings LP; Blackstone Core Equity Partners L.P.
20170572 | G | Hennessy Capital Acquisition Corp. II; Daseke, Inc.; Hennessy Capital Acquisition Corp. II.
20170574 | G | LTR Group Holdings, LLC; Clearlake Capital Partners IV (AIV-Atlas), L.P.; LTR Group Holdings, LLC.
20170583 | G | Svenska Cellulosa Aktiebolaget SCA; EQT VI (No.1) Limited Partnership; Svenska Cellulosa Aktiebolaget SCA.
20170589 | G | Bain Capital Fund XI, L.P.; J.H. Whitney VII, L.P.; Bain Capital Fund XI, L.P.
20170590 | G | J.H. Whitney VII, L.P.; Bain Capital Fund XI, L.P.; J.H. Whitney VII, L.P.
01/24/2017
20170584 | G | KKR Asian Fund II Japan AIV L.P.; Hitachi, Ltd.; KKR Asian Fund II Japan AIV L.P.
01/25/2017
20170514 | G | Insight MB Holdings, LLC; Riverside Micro-Cap Fund II, L.P.; Insight MB Holdings, LLC.
20170532 | G | Visa Inc.; CardinalCommerce Corporation; Visa Inc.
20170563 | G | Allergan plc; Chiron Guernsey Holdings L.P. Inc.; Allergan plc.
20170571 | G | Assurant, Inc.; Walter Investment Management Corp.; Assurant, Inc.
20170576 | G | Celgene Corporation; Delinia, Inc.; Celgene Corporation.
20170578 | G | Jorge Paulo Lemann; Agnaten SE; Jorge Paulo Lemann.
20170579 | G | Eugenie Patri Sabastien EPS, SA; Agnaten SE; Eugenie Patri Sabastien EPS, SA.
01/26/2017
20170523 | G | First Horizon National Corporation; Coastal Financial Holdings, Inc.; First Horizon National Corporation.
01/27/2017
20170334 | G | Oracle Corporation; Dynamic Network Services Inc.; Oracle Corporation.
20170454 | G | CHRISTUS Health; Good Shepherd Health System, Inc.; CHRISTUS Health.
20170595 | G | LSF X International 2, L.P.; Arclin Cayman Holdings Ltd.; LSF X International 2, L.P.
20170597 | G | Fairfax Financial Holdings Limited; Allied World Assurance Company Holdings, AG; Fairfax Financial Holdings Limited.
20170606 | G | Nippon Paint Holdings Co., Ltd.; DE Parent Corp.; Nippon Paint Holdings Co., Ltd.
01/30/2017
20170618 | G | L Catterton VIII, L.P.; Leslie's Holdings, Inc.; L Catterton VIII, L.P.
20170621 | G | Ulysses L. Bridgeman, Jr.; The Coca-Cola Company; Ulysses L. Bridgeman, Jr.
20170639 | G | Takeda Pharmaceutical Company Limited; ARIAD Pharmaceuticals, Inc.; Takeda Pharmaceutical Company Limited.
01/31/2017
20170540 | G | ArcLight Energy Partners Fund VI, L.P.; Lindsay Goldberg III AIV L.P.; ArcLight Energy Partners Fund.
20170581 | G | VI, L.P. Monomoy Capital Partners II, L.P.; Corinthian Equity Fund, L.P.; Monomoy Capital Partners II, L.P.

FOR FURTHER INFORMATION CONTACT: Theresa Kingsberry, Program Support Specialist, Federal Trade Commission Premerger Notification Office, Bureau of Competition, Room CC-5301, Washington, DC 20024, (202) 326-3100.

By direction of the Commission.
Donald S. Clark,
Secretary.

[FR Doc. 2017-02892 Filed 2-10-17; 8:45 am]

BILLING CODE 6750-01-P